FEDERAL COMMUNICATIONS COMMISSION

47 CFR Part 9

[PS Docket Nos. 15-80, 13-75; ET Docket No. 04-35; FCC 22-88; FR ID 223373]

Disruptions to Communications; Improving 911 Reliability

AGENCY: Federal Communications Commission.

ACTION: Final rule; announcement of compliance date.

SUMMARY: In this document, the Commission announces that the Office of Management and Budget (OMB) has approved information collections for the requirement that covered 911 service providers notify the Commission no later 60 days after they completely cease operations. This information collection requirement was adopted in the 2022 Second Report and Order, to assist the Commission in conserving resources, in that the Commission will not need to expend time investigating why a provider has failed to file its annual 911 reliability certification in a timely manner, when the reason is simply because the provider is no longer a provider. These rule changes resulted in modified information collection requirements under the Paperwork Reduction Act (PRA) that required OMB approval. The Commission also announces that compliance with the rules is now required. This document is consistent with the 2022 Second Report and Order, which states the Commission will publish a document in the Federal Register announcing a compliance date for the rule section and revise the rule accordingly.

DATES: Compliance date: Compliance with 47 CFR 9.19(d)(4), published at 88 FR 9765, on February 15, 2023, is required as of July 5, 2024.

FOR FURTHER INFORMATION CONTACT: Linda Pintro of the Public Safety and Homeland Security Bureau, Policy and Licensing Division, at (202) 418-7490 or Linda.Pintro@fcc.gov. For additional information concerning the Paperwork Reduction Act information collection requirements contained in this document, send an email to PRA@fcc.gov or contact Nicole Ongele, Office of Managing Director, Performance Management, 202-418-2991, or by email to PRA@fcc.gov.

SUPPLEMENTARY INFORMATION: This document announces that OMB approved the information collection requirement in 47 CFR 9.19(d)(4) on November 15, 2023.

The Commission publishes this document as an announcement of the compliance date of the rule.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on November 15, 2023, for the information collection requirements contained in § 9.19(d)(4).

Under 5 CFR part 1320, an agency may not conduct or sponsor a collection of information unless it displays a current, valid OMB Control Number.

No person shall be subject to any penalty for failing to comply with a collection of information subject to the Paperwork Reduction Act that does not display a current, valid OMB Control Number.

The foregoing notification is required by the Paperwork Reduction Act of 1995, Public Law 104-13, October 1, 1995, and 44 U.S.C. 3507.

The total annual reporting burdens and costs for the respondents are as follows:

OMB Control Number: 3060-1202.

OMB Approval Date: November 15, 2023.

OMB Expiration Date: November 30, 2026.

Title: Improving 911 Reliability; Reliability and Continuity of Communications Including Networks, Broadband Technologies.

Form Number: N/A.

Respondents: Business or other for-profit entities, Not for profit institutions and State, local, or Tribal government.

Number of Respondents and Responses: 300 respondents; 305 responses.

Estimated Time per Response: 1 hour.

Frequency of Response: Annual reporting requirement and recordkeeping requirement.

Obligation to Respond: Required to obtain or retain benefits. The statutory authority for this collection of information is contained in sections 1, 4(i), 4(j), 4(o), 201(b), 214(d), 218, 251(e)(3), 301, 303(b), 303(g), 303(r), 307, 309(a), 316, 332, 403, 615a-1, and 615c of the Communications Act of 1934, as amended, 47 U.S.C. 151, 154(i)-(j) & (o), 201(b), 214(d), 218, 251(e)(3), 301, 303(b), 303(g), 303(r), 307, 309(a), 316, 332, 403, 615a-1, and 615c.

Total Annual Burden: 168,651 hours.

Total Annual Cost: No Cost.

Needs and Uses: In 2022, the Commission adopted a new rule requiring covered 911 service providers to file notice with the Commission when they cease operating as a covered 911 service provider. The Commission adopted this measure to ensure that its staff does not expend time and resources to investigate why a covered 911 service provider failed to file its annual 911 reliability certification in a timely manner, when the reason is simply because the provider ceased operations.

Federal Communications Commission.
Marlene Dortch,
Secretary, Office of the Secretary.

[FR Doc. 2024-12175 Filed 6-3-24; 8:45 am]

BILLING CODE 6712-01-P